DEPARTMENT OF TRANSPORTATION

Pipeline and Hazardous Materials Safety Administration

[Docket No. PHMSA-2015-0211; Notice No. 15-22]

Hazardous Materials: Notice of Suspension of Del-Med, Inc., Edison, NJ for DOT-SP 8308

AGENCY: Pipeline and Hazardous Materials Safety Administration (PHMSA), DOT.

ACTION: Notice of suspension.

SUMMARY: This provides notice that transportation under the terms of DOT-SP 8308 has been suspended for Del-Med, Inc. formerly located in Edison, NJ.

DATES: The suspension discussed in this notice was effective October 21, 2015.

FOR FURTHER INFORMATION CONTACT: Mr. Ryan Paquet, Director, Approvals and Permits Division, Office of Hazardous Materials Safety, (202) 366-4535, PHMSA, 1200 New Jersey Avenue SE., Washington, DC 20590.

SUPPLEMENTARY INFORMATION: DOT-SP 8308 authorizes the transportation in commerce of certain radioactive materials aboard highway vehicles when the combined transport index (TI) exceeds 50 or the separation criteria cannot be met. Paragraph 12.d. of DOT-SP 8308 requires quarterly reporting of: (i) The results of the radiation dosimetry program; (ii) a description of activities conducted by the health physicist during the quarter; (iii) summaries of the results of the radiation level surveys and contamination surveys; (iv) any changes to the radiation safety program; (v) an estimate of the total TI transported during the quarter; and (vi) the total quarterly dose in person-rem for all monitored personnel.

Del-Med, Inc. of Edison, NJ missed filing their reports. The fourth quarter report for 2014 was due within 90 days of January 15, 2015; the first quarter report for 2015 was due within 90 days of April 15, 2015; and the second quarter report for 2015 was due within 90 days of July 15, 2015.

Pursuant to 49 CFR 107.121, PHMSA's Associate Administrator may modify, suspend or terminate a special permit or grant of party status, as appropriate, on finding that the holder or party knowingly has violated the terms of the special permit or an applicable requirement of this chapter in a manner demonstrating the holder or party is not fit to conduct the activity authorized by the special permit. Del-Med Inc.'s failure to file the reports required by the terms of DOT-SP 8308 constitutes a violation of the terms of the special permit. On September 11, 2015 PHMSA sent a letter proposing suspension of DOT-SP 8308, and offering Del-Med, Inc. an opportunity to respond within 30 days and show cause why the proposed action should not be taken. The US Postal Service was unable to deliver the letter. PHMSA's Office of Hazardous Materials Safety, Field Operations, attempted an inspection at the Edison, New Jersey facility and determined that Del-Med, Inc. is no longer active at that location. On October 21, 2015, PHMSA suspended Del-Med's status as a grantee to DOT-SP 8308 until such time that they can provide up-to-date quarterly reports and demonstrate that they are in compliance with the requirements of the special permit.

Issued in Washington, DC, on November 2, 2015.
Magdy El-Sibaie,
Associate Administrator for Hazardous Materials Safety, Pipeline and Hazardous Materials Safety Administration.

[FR Doc. 2015-28311 Filed 11-5-15; 8:45 am]

BILLING CODE 4910-60-P